FEDERAL COMMUNICATIONS COMMISSION

Notice of Public Information Collection(s) Being Reviewed by the Federal Communications Commission

January 23, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 8, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0132.

Title: Supplemental Information, 72-76 MHz Operational Fixed Stations.

Form No: FCC Form 1068-A.

Type of Review: Revision of a currently approved collection.

Respondents: Individuals or households, business or other for-profit, not-for-profit institutions, and state, local, or tribal government.

Number of Respondents: 300.

Estimated Time Per Response: .50 hours.

Frequency of Response: On occasion reporting requirement.

Total Annual Burden: 150 hours.

Total Annual Cost: $5,000.

Needs and Uses: This form is being revised to include the FCC Registration Number (FRN) as well as updates to the Notice to Individuals (Privacy Act statement). FCC rules require that the applicant agrees to eliminate any harmful interference caused by the operations to TV reception on either channel 4 or 5 that might develop. The data is used by Commission personnel to determine if the information submitted will meet the FCC rule requirements for the assignment of frequencies in the 72-76 MHz band.

OMB Control No.: 3060-0895.

Title: Numbering Resource Optimization, CC Docket No. 99-200.

Form No: FCC Form 502.

Type of Review: Revision of a currently approved collection.

Respondents: Business or other for-profit.

Number of Respondents: 2,780 respondents; 5,400 responses.

Estimated Time Per Response: 1-44 hours.

Frequency of Response: On occasion, semi-annual and one-time reporting requirements, recordkeeping requirement.

Total Annual Burden: 181,890 hours.

Total Annual Cost: $7,858,650.

Needs and Uses: Carriers that receive numbering resources from the North American Numbering Plan (NANP) Administrator or that receive numbering resources from the Pooling Administrator in thousand-blocks must report forecast and utilization semi-annually. These carriers are also required to maintain detailed internal records of their number usage. Carriers must file applications for initial and growth numbering resources. The Commission has revised the instructions of the FCC Form 502 to correct the number of days in which telephone numbers can be held in the “reserved” category from the 45 days currently listed in the instructions under the “Reserved” heading to the correct 180 days. The information will be used by the Commission, state regulatory commissions, and the NANP Administrator to monitor numbering resource utilization and to project the date of area code and NANP exhaust.

OMB Control No.: 3060-0942.

Title: Access Charge Reform, Price Cap Performance Review for Local Exchange Carriers, Low-Volume Long Distance Users, Federal-State Joint Board on Universal Service.

Form No: N/A.

Type of Review: Extension of a currently approved collection.

Respondents: Business or other for-profit.

Number of Respondents: 27 respondents; 108 responses.

Estimated Time Per Response: 1-20 hours.

Frequency of Response: Annual and quarterly reporting requirements, recordkeeping requirement and third party disclosure requirement.

Total Annual Burden: 6,677 hours.

Total Annual Cost: N/A.

Needs and Uses: Commission rules implemented the Coalition for Affordable Local and Long Distance Service (CALLS) proposal, which resolves major outstanding issues concerning access charges; the pending NPRM to address implicit universal service supporting in access charges, the X-factor remand, the Low-Volume Long-Distance Users NOI, the pending NPRM on geographically deaveraging SLC's and the next scheduled price cap performance review. The Commission is seeking extension (no change) to this information collection and is submitting it to the OMB for the full three year clearance.

Federal Communications Commission.
Marlene H. Dortch,
Secretary.

[FR Doc. 04-2529 Filed 2-4-04; 8:45 am]

BILLING CODE 6712-01-M